SECURITIES AND EXCHANGE COMMISSION

[Release No. 34-49012; File No. SR-CHX-2003-23]

Self-Regulatory Organizations; Order Granting Accelerated Approval to Proposed Rule Change and Amendment No. 1 Thereto by the Chicago Stock Exchange, Incorporated To Amend Article XX, Rule 37(a)(4) Relating to the Definition of Preopening Order

December 31, 2003.

On August 1, 2003, the Chicago Stock Exchange, Incorporated (“CHX” or “Exchange”) filed with the Securities and Exchange Commission (“Commission”), pursuant to Section 19(b)(1) of the Securities Exchange Act of 1934 (“Act”) ¹ and Rule 19b-4 thereunder,² a proposed rule change to amend CHX Article XX, Rule 37(a)(4) to modify the definition of “preopening order” to provide that preopening orders for Nasdaq/NM securities must be received at or prior to 8:20 a.m. (CT), instead of the 8:25 (CT) deadline currently set forth in the rule. The Exchange submitted an amendment to the proposed rule change on November 6, 2003.³

¹ 15 U.S.C. 78s(b)(1).

² 17 CFR 240.19b-4.

³ See letter from Kathleen M. Boege, Associate General Counsel, CHX, to Nancy J. Sanow, Assistant Director, Division of Market Regulation, Commission, dated November 4, 2003 (“Amendment No. 1”).

The proposed rule change and Amendment No. 1 were published for comment in the Federal Register on December 8, 2003.⁴ The Commission received no comments on the proposal and Amendment No. 1. This order grants accelerated approval to the Exchange's proposed rule change, as amended.

⁴ See Securities Exchange Act Release No. 48859 (December 1, 2003), 68 FR 68434. The 15-day comment period ran through December 23, 2003.

The CHX requested that the Commission grant accelerated approval to the proposed rule change, as amended, pursuant to Section 19(b)(2) of the Act.⁵ After careful review, the Commission finds that the proposed rule change, as amended, is consistent with the requirements of the Act and the rules and the regulations thereunder applicable to a national securities exchange.⁶ Specifically, the Commission believes that the proposal is consistent with Section 6 of the Act in general,⁷ and Section 6(b)(5) of the Act in particular,⁸ in that it is designed to promote just and equitable principles of trade, to remove impediments to and perfect the mechanism of a free and open market and a national market system, and in general, to protect investors and the public interest. The Commission believes that an earlier deadline for preopening orders may operate to reduce the aggregate amount of preopening orders received by a CHX specialist and may thereby better enable the CHX specialist to manage his position and fulfill his specialist duties by giving him time to fully evaluate his position and to make a professional price assessment that would inform his executions once trading commences for the day. Furthermore, the Commission believes that an 8:20 (CT) deadline for CHX preopening orders may better enable CHX specialists to comply with SuperMontage rules and procedures governing the “trade or move” functionality.

⁵ 15 U.S.C. 78s(b)(2).

⁶ In approving this proposed rule change, the Commission notes that it has considered the proposal's impact on efficiency, competition, and capital formation. 15 U.S.C. 78c(f).

⁷ 15 U.S.C. 78f.

⁸ 15 U.S.C. 78f(b)(5).

The Commission finds good cause for approving the proposed rule change and Amendment No. 1 before the 30th day after the date of publication of notice of filing thereof in the Federal Register. The Commission believes that accelerated approval will allow the Exchange to immediately provide specialists with a greater ability to manage their risks.

It is therefore ordered, pursuant to Section 19(b)(2) of the Act ⁹, that the proposed rule change and Amendment No. 1 (SR-CHX-2003-23) be and hereby are approved on an accelerated basis.

⁹ 15 U.S.C. 78s(b)(2).

For the Commission, by the Division of Market Regulation, pursuant to delegated authority.¹⁰
¹⁰ 17 CFR 200.30-3(a)(12).
Jill M. Peterson,
Assistant Secretary.

[FR Doc. 04-405 Filed 1-8-04; 8:45 am]

BILLING CODE 8010-01-P